NATIONAL SCIENCE FOUNDATION

Request for Information (RFI) on National Science Board-National Science Foundation Merit Review Commission Review of NSF's Merit Review Policy and Processes; Correction

AGENCY: National Science Foundation.

ACTION: Request for information; correction.

SUMMARY: The National Science Board-National Science Foundation Commission on Merit Review (MRX) published a document in the Federal Register of August 26, 2024, concerning a Request for Information that seeks input from interested individuals and parties to inform the MRX's review of NSF's merit review policy and process. The document contained an incorrect date when responses are due.

FOR FURTHER INFORMATION CONTACT: Portia Flowers, 703-292-7000, pflowers@nsf.gov.

SUPPLEMENTARY INFORMATION:

Correction

In the Federal Register of August 26, 2024, 89 FR 68473, on page 68473, in the second column, correct the “Dates” caption to read:

DATES:

Interested individuals and parties are invited to submit responses to this Request for Information on or before 5 p.m. eastern time on Friday, September 20, 2024.

Dated: September 4, 2024.
Ann E. Bushmiller,
Senior Counsel to the National Science Board.

[FR Doc. 2024-20318 Filed 9-9-24; 8:45 am]

BILLING CODE 7555-01-P